ENVIROMENTAL PROTECTION AGENCY

[FRL-9918-07-Region 3]

Clean Air Act Operating Permit Program; Petition To Object to Title V Permits for Mettiki Coal, LLC; Maryland

AGENCY: Environmental Protection Agency (EPA).

ACTION: Notice of final action.

SUMMARY: Pursuant to the Clean Air Act (CAA), the EPA Administrator signed an Order, dated September 26, 2014, granting a petition to object to a state operating permit issued by the Maryland Department of the Environment (MDE). The Order responds to a February 5, 2013 petition. The petition was submitted by the Environmental Integrity Project (EIP), as well as Benjamin Feldman, and Brenda and Shayne Lambert (Petitioners). This Order constitutes final action on that petition requesting that the Administrator object to the issuance of the proposed CAA title V permit.

ADDRESSES: Copies of the final Order, the petition, and all pertinent information relating thereto are on file at the following location: EPA, Region III, Air Protection Division (APD), 1650 Arch St., Philadelphia, Pennsylvania 19103. EPA requests that if at all possible, you contact the individual listed in the FOR FURTHER INFORMATION CONTACT section to view copies of the final Order, petition, and other supporting information. You may view the hard copies Monday through Friday, from 9 a.m. to 3 p.m., excluding Federal holidays. If you wish to examine these documents, you should make an appointment at least 24 hours before the visiting day. The final Order is also available electronically at the following Web site: http://www.epa.gov/region07/air/title5/petitiondb/petitiondb.htm.

FOR FURTHER INFORMATION CONTACT: David Talley, Air Protection Division, EPA Region III, telephone (215) 814-2117, or by email at talley.david@epa.gov.

SUPPLEMENTARY INFORMATION: The CAA affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

The February 5, 2013 petition requested that the Administrator object to the proposed title V operating permit issued by MDE (Permit No. 24-023-0042), on the grounds that it did not contain testing and monitoring requirements sufficient to assure compliance with limits for sulfur dioxide (SO2) and particulate matter (PM) emissions from the facility's thermal dryer.

The Order explains the reasons behind EPA's decision to grant the petition for objection.

Dated: October 3, 2014.
William C. Early,
Acting, Regional Administrator, Region III.

[FR Doc. 2014-24728 Filed 10-16-14; 8:45 am]

BILLING CODE 6560-50-P